DEPARTMENT OF AGRICULTURE

National Institute of Food and Agriculture

Solicitation of Input From Stakeholders Regarding the Smith-Lever 3(d) Children, Youth, and Families at Risk Sustainable Community Projects

AGENCY: National Institute of Food and Agriculture, USDA.

ACTION: Notice of public meeting and request for stakeholder input.

SUMMARY: Section 7403 of the Food, Conservation, and Energy Act of 2008 (Pub. L. 110-246) (FCEA) amended section 3(d) of the Smith-Lever Act (7 U.S.C. 343(d)) to provide the opportunity for 1862 and 1890 Land-Grant Institutions, including Tuskegee University and West Virginia State University to compete for section 3(d) funds. Section 7417 of FCEA also provided the University of the District of Columbia the opportunity to compete for section 3(d) funds. The Children, Youth, and Families at Risk (CYFAR) Sustainable Community Projects is among the Extension programs funded under this authority. The National Institute of Food and Agriculture (NIFA) plans to consider stakeholder input received from written comments in developing future competitive RFAs for this program.

DATES: Webinars will be held on Thursday, February 22, 2012 from 2 p.m. to 3:30 p.m. Eastern time and Friday, March 9, 2012 from 2 p.m. to 3:30 p.m. Eastern time. All comments not otherwise presented or submitted for the record at the meeting must be submitted by close of business Friday, March 30, 2012 to assure consideration in the next RFA.

Instructions: To register for the February 22, 2012 webinar, please use the link provided: cyfarstakeholderinput2.eventbrite.com. To register for the March 9, 2012 webinar, please use the link provided: cyfarstakeholderinput3.eventbrite.com. You may submit comments, identified by NIFA-2012-0005 by any of the following methods:

Federal eRulemaking Portal: http://www.regulations.gov. Follow the instructions for submitting comments.

Email: cyfar@nifa.usda.gov. Include NIFA-2012-0005 in the subject line of the message.

Fax: 202-720-9366.

Mail: Paper, disk or CD-ROM submissions should be submitted to Division of Youth and 4-H, National Institute of Food and Agriculture, U.S. Department of Agriculture; STOP 2225, 1400 Independence Avenue SW., Washington, DC 20250-2225.

Hand Delivery/Courier: Division of Youth and 4-H, National Institute of Food and Agriculture, U.S. Department of Agriculture; Room 4316, Waterfront Centre, 800 9th Street SW., Washington, DC 20024.

All submissions received must include the agency name and the identifier NIFA-2012-0005. All comments received will be posted to http://www.regulations.gov, including any personal information provided.

FOR FURTHER INFORMATION CONTACT: Bonita Williams (202)720-3566, (FAX) 202.720.9366, bwilliams@nifa.usda.gov or Lindsey Jewell (202) 720-6962, (FAX) 202.720.9366, ljewell@nifa.usda.gov.

SUPPLEMENTARY INFORMATION: Reservations for oral comments will be confirmed on a first-come, first-serve basis during the listening session. All comments and the official transcript of the meeting, when they become available, may be reviewed on the NIFA Web page for six months.

Background and Purpose

The mission of the CYFAR Program is to marshal resources of Land-Grant and Cooperative Extension Systems, so that, in collaboration with other organizations, they can develop and deliver educational programs that equip youth who are at risk for not meeting basic human needs with the skills they need to lead positive, productive, and contributing lives. Through an annual congressional appropriation for the CYFAR Program, NIFA allocates funding to land-grant university Extension services for community-based programs for at-risk children and their families. NIFA is seeking stakeholder input regarding CYFAR's structure of the professional development and technical support program for fiscal year 2013. The focus of the webinar will be to address the following questions:

1. What should change about CYFAR, if anything?

2. What specific audiences should CYFAR target within at-risk populations?

3. Are there audiences for which CYFAR could have greater impact?

4. CYFERnet.org, are you using this, if so, please explain how?

5. CYFERnetSEARCH.org, are you using this, if so, please explain how?

6. How should the role of the CYFAR liaison be changed, if at all?

7. Have the capacity building workshops been effective, please explain?

8. Should we have a CYFAR liaison who is responsible specifically for capacity building, please explain?

9. CYFAR Conference, how effective has the CYFAR Conference been for your professional development in working with at-risk populations?

10. What percentage of the CYFAR funds should go to building the capacity of the system to serve at-risk audiences vs. building the capacity of the grantees?

Stakeholders' comments provided on the questions above will provide guidance to NIFA in restructuring the program and assisting NIFA leadership in more fully addressing stakeholder needs.

Implementation Plans

NIFA plans to consider stakeholder input received from this public meeting as well as other written comments in developing the FY 2013 program guidelines. NIFA anticipates

releasing the FY 2013 Request for Applications (RFA) by winter 2012.

Done at Washington, DC, this 10th day of February, 2012.
Chavonda Jacobs-Young,
Acting Director, National Institute of Food and Agriculture.

[FR Doc. 2012-3856 Filed 2-17-12; 8:45 am]

BILLING CODE 3410-22-P